DEPARTMENT OF AGRICULTURE

Commodity Credit Corporation

Tobacco Marketing Quota Referenda Results: Burley and Flue-Cured Tobaccos, 2001

AGENCY: Farm Service Agency, USDA.

ACTION: Notice of results of marketing quota referenda for burley and flue-cured tobaccos for 2001.

SUMMARY: The Farm Service Agency (FSA) herein announces results of marketing quota referenda held in 2001 for burley and flue-cured tobacco. These referenda were conducted to determine if a sufficient number of voting producers who own or grow these tobaccos wanted national marketing quotas to continue for the three marketing years 2001, 2002 and 2003. A majority of the eligible producers voting in the referenda approved continuation of the national marketing quotas.

FOR FURTHER INFORMATION CONTACT: Ann Wortham, Tobacco and Peanuts Division, (202)720-2715 or at e-mail address ann_wortham@wdc.usda.gov.

SUPPLEMENTARY INFORMATION:

Discussion of Notice

In January 2001, the Secretary of Agriculture (the Secretary) announced that national marketing quotas would be in effect for flue-cured tobacco for the three marketing years beginning with 2001, subject to approval by flue-cured producers in a referendum held in accordance with Sec. 312(c) of the Agricultural Adjustment Act of 1938, as amended. The flue-cured tobacco referendum was conducted January 8 through January 12, 2001, and indicated that 97 percent of voting producers favored the quotas.

The Secretary announced in February 2001, that national marketing quotas would be in effect for burley tobacco for the three marketing years beginning with 2001, subject to approval by burley producers in a referendum. The burley marketing quota referendum, held from February 12 through February 16, 2001, indicated that 97.4 percent of the producers who voted favored the quotas.

This notice is to announce the referenda results, as required by 7 CFR part 717.24. The results of each referenda are set forth below.

Notice

Results of the National Marketing Quota Referenda for the 2001 Through 2003 Marketing Years for Flue-Cured and Burley Tobaccos

The following is a summary, by State, of the results of each referendum.

Flue-Cured
State | Yes | No | Total
Alabama | 1 | 0 | 1
Florida | 133 | 3 | 136
Georgia | 363 | 84 | 447
North Carolina | 6,589 | 160 | 6,749
South Carolina | 761 | 13 | 774
Virginia | 1,420 | 37 | 1,457
Total | 9,267 | 297 | 9,564

Burley
State | Yes | No | Total
Alabama | 1 | 0 | 1
Arkansas | 1 | 0 | 1
Georgia | 13 | 2 | 15
Indiana | 3899 | 183 | 4,082
Kansas | 19 | 2 | 21
Kentucky | 85,682 | 1,272 | 86,954
Missouri | 770 | 33 | 803
North Carolina | 4,644 | 164 | 4,808
Ohio | 4,851 | 201 | 5,052
Oklahoma | 0 | 0 | 0
Tennessee | 26,720 | 1,442 | 28,162
Virginia | 7,146 | 219 | 7,365
West Virginia | 1,276 | 47 | 1,323
Total | 135,022 | 3,565 | 135,587

Signed at Washington, DC, on February 28, 2002.
James R. Little,
Administrator, Farm Service Agency and Executive Vice President, Commodity Credit Corporation.

[FR Doc. 02-6209 Filed 3-14-02; 8:45 am]

BILLING CODE 3410-05-P